DEPARTMENT OF EDUCATION

Privacy Act of 1974; System of Records

AGENCY: Office of the Chief Information Officer, Department of Education.

ACTION: Notice of a new system of records.

SUMMARY: In accordance with the Privacy Act of 1974, as amended, the Chief Information Officer for the Department of Education publishes this Notice of a New System of Records for the ED Web Personalization Pilot Data Collection (System Number 18-04-03). The U.S. Department of Education (ED) plans to pilot test a customer personalization capability as part of the upcoming redesign of its main web site, www.ed.gov.

DATES: We must receive your comments on the proposed routine uses for this system of records included in this notice on or before October 9, 2001. The Department seeks comment on this new system of records described in this notice, in accordance with the requirements of the Privacy Act.

The Department filed a report describing the new system of records covered by this notice with the Chair of the Committee on Governmental Affairs of the Senate, the Chair of the Committee on Government Reform of the House, and the Administrator of the Office of Information and Regulatory Affairs, Office of Management and Budget (OMB) on August 31, 2001. This new system of records will become effective at the later date of: (1) The expiration of the 40-day period for OMB review on October 10, 2001, or (2) October 9, 2001, unless the system of records needs to be changed as a result of public comment or OMB review.

ADDRESSES: Address all comments on the proposed routine uses of this system, and requests for information about the final pilot test results, to Keith Stubbs, Office of the Chief Information Officer, Web Services Group, U.S. Department of Education, 7th and D Streets, SW., Regional Office Building 3, room 4923-B, Washington, DC 20202-0001. If you prefer to send your comments through the Internet, use the following address: Comments@ed.gov. You must include the term “ED Web Pilot Project” in the subject line of your electronic message.

During and after the comment period, you may inspect all comments about this notice in room 4923-B, Regional Office Building 3, 7th and D Streets, SW., Washington, DC, between the hours of 8:00 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, you may call (202) 205-8113 or (202) 260-9895. If you use a TDD, you may call the Federal Information Relay Service at 1-800-877-8339.

FOR FURTHER INFORMATION CONTACT: Sally Budd, U.S. Department of Education, Office of the Chief Information Officer, 7th and D Streets, SW., Regional Office Building 3, room 4923-A, Washington, DC 20202-0001. Telephone number: (202) 205-2280. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act of 1974 (5 U.S.C. 552a(e)(4)) requires the Department to publish in the Federal Register this notice of a new system of records managed by the Department. The Department's regulations implementing the Privacy Act of 1974 are contained in the Code of Federal Regulations (CFR) in 34 CFR part 5b.

The Privacy Act of 1974 (Privacy Act), 5 U.S.C. 552a, applies to a record about an individual that is maintained in a system of records from which information is retrieved by a unique identifier associated with each individual, such as a name or social security number. The information about each individual is called a “record” and the system, whether manual or computer-driven, is called a “system of records.” The Privacy Act requires each agency to publish notices of systems of records in the Federal Register and to prepare reports to the Office of Management and Budget (OMB) whenever the agency publishes a new or “altered” system of records.

Pilot Project

Through its Internet Customer Survey (OMB control number 1800-0011), ED has identified several different constituencies among its Internet customers, and the fact that each one of these constituencies has different educational interests and information needs. Web site personalization is viewed by many as an effective means of fulfilling the diverse needs of Internet customers. Pilot testing web site personalization is necessary to (1) determine its effectiveness as a customer service tool and its potential role in improving the delivery of the Agency information and services, and (2) determine the policy, resource and other implications of the implementation of web personalization by a Federal agency.

The pilot test will be conducted for a period of nine months that will begin with the release of the redesigned web site. The new reengineered web site will be launched in the fall of 2001. We anticipate that a significant number of our web site users will take advantage of the new personalization feature due to the start of the new school year and renewed focus on education. Responses to the ed.gov on-line Internet Customer Survey indicate a strong shift in users of our Internet services from education administrators and teachers to students (up 24%) and parents and family members (up 12%). Students and parents constitute 62% of respondents in the most recent analysis of results.

In addition, we anticipate a significant increase in the number of users during the March, April, and May timeframe when many of our customers will be college-age students who wish to apply for student financial aid. Our WebTrends system usage analysis indicates that the FAFSA (Free Application for Student Aid) web application receives the highest volume of users during this period. Responses to the ed.gov on-line Internet Customer Survey indicates that these Internet users are likely to be more technically astute, have less time to surf the Internet for the information they need, and thus more likely to want and to take advantage of a web personalization feature. Conducting the pilot for nine months from the fall of 2001 through the March-May timeframe will give customers sufficient opportunity to respond to new personalization features and provide an adequate sample upon which to base the analysis of our pilot test.

During the pilot test, ED will offer its Internet customers the opportunity to use a web personalization form which will allow users to select a login name and password (to avoid using persistent cookies), to define their interests, and to elect to receive weekly email notification of new postings in their areas of interest. This information will be used by the system to present a customized view of the ED web site.

Registered users will have access to a home page that features content that matches their interests and allows them to bookmark their favorite pages on the ED site and save search criteria for reuse.

In conjunction with this pilot test, ED will also give its Internet customers the opportunity to complete a very brief survey designed to record their opinions about the usefulness and effectiveness of the web personalization feature. The customer survey is very similar to the existing ED Internet Customer Survey (http://www.ed.gov/Survey/cust.html) in its overall approach, question design, and technologies used. The survey will contain questions designed to collect respondents' demographic information, level of satisfaction with the personalization service, reasons for registering or not registering for the service, preferred features, and potential enhancements. This short survey consists of 12 questions and requires approximately 10 minutes to complete. ED will evaluate the results of this survey as part of its analysis of the pilot test. ED will also publish the results of the pilot test, the analysis, and a proposed web personalization model once the pilot test and analysis are complete.

Electronic Access to This Document

You may view this document, as well as all other Department of Education documents published in the Federal Register, in text or Adobe Portable Document Format (PDF) on the Internet at the following site: http://www.ed.gov/legislation/FedRegister/.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Dated: August 31, 2001.
Craig B. Luigart,
Chief Information Officer.

For the reasons discussed in the preamble, the Chief Information Officer of the U.S. Department of Education publishes notice of a new system of records to read as follows:

18-04-03

SYSTEM NAME:

ED Web Personalization Pilot Data Collection.

SECURITY CLASSIFICATION:

None.

SYSTEM LOCATION(S):

Office of the Chief Information Officer, Web Services Group, U.S. Department of Education, Seventh and D Streets, SW., room 4923, ROB-3, Washington, DC 20202-5130.

CATEGORIES OF INDIVIDUALS COVERED BY THE SYSTEM:

All users of the U.S. Department of Education web site (www.ed.gov) who choose to personalize the web site.

CATEGORIES OF RECORDS IN THE SYSTEM:

The ED Web Personalization Pilot Data Collection contains user customization data. The system contains data elements such as customer first name, middle initial and last name; customer email address; Ed.gov ID and password; and information selection criteria such as desired subject(s), audience type, level(s) of education, resource type(s).

AUTHORITY FOR MAINTENANCE OF THE SYSTEM:

The general statutory authority is 40 U.S.C. 1425(b) and 44 U.S.C. Chapter 35.

PURPOSE(S):

The purpose of this system of records is to give ED customers the option of customizing the retrieval and delivery of web site content and services based on their interests.

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Act, under a computer matching agreement.

(1) Freedom of Information Act (FOIA) Advice Disclosure. The Department may disclose records to the Department of Justice (DOJ) and the Office of Management and Budget if the Department concludes that disclosure is desirable or necessary in determining whether particular records are required to be disclosed under the FOIA.

(2) Disclosure to the DOJ. The Department may disclose records to the DOJ to the extent necessary for obtaining DOJ advice on any matter relevant to an audit, inspection, or other inquiry related to the programs covered by this system.

(3) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(4) Litigation and Alternative Dispute Resolution (ADR) Disclosures.

(a) Introduction. In the event that one of the parties listed below is involved in litigation or ADR, or has an interest in litigation or ADR, the Department may disclose certain records to the parties described in paragraphs (b), (c), and (d) of this routine use under the conditions specified in those paragraphs:

(i) The Department of Education, or any component of the Department; or

(ii) Any Department employee in his or her official capacity; or

(iii) Any Department employee in his or her individual capacity if the Department of Justice (DOJ) has agreed to provide or arrange for representation for the employee;

(iv) Any Department employee in his or her individual capacity where the agency has agreed to represent the employee; or

(v) The United States where the Department determines that the litigation is likely to affect the Department or any of its components.

(b) Disclosure to the DOJ. If the Department determines that disclosure of certain records to the DOJ is relevant and necessary to litigation or ADR, the Department may disclose those records as a routine use to the DOJ.

(c) Administrative disclosures. If the Department determines that disclosure of certain records to an adjudicative body before which the Department is authorized to appear, an individual or entity designated by the Department or otherwise empowered to resolve or mediate disputes is relevant and necessary to the administrative litigation, the Department may disclose those records as a routine use to the adjudicative body, individual, or entity.

(d) Parties, counsels, representatives and witnesses. If the Department determines that disclosure of certain records to a party, counsel, representative or witness in an administrative proceeding is relevant and necessary to the litigation, the Department may disclose those records as a routine use to the party, counsel, representative or witness.

(5) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(6) Congressional Member Disclosure. The Department may disclose records to a member of Congress from the record of an individual in response to an inquiry from the member made at the written request of that individual. The Member's right to the information is no greater than the right of the individual who requested it.

(7) Disclosure for Use By Law Enforcement Agencies. The Department may disclose information to any Federal, State, local or foreign agency or other authority responsible for enforcing, investigating, or prosecuting violations of administrative, civil, or criminal law or regulation if that information is relevant to any enforcement, regulatory, investigative or prosecutive responsibility within the entity's jurisdiction.

POLICIES AND PRACTICES FOR STORING, RETRIEVING, ACCESSING, RETAINING, AND DISCLOSING OF RECORDS IN THE SYSTEM:

STORAGE:

System records will be maintained on a database server as part of the www.ed.gov web site, and are backed up and archived onto electronic storage media.

RETRIEVABILITY:

Each record in this system is indexed and retrieved by a personal ID and password that is created by the user of the www.ed.gov web site.

SAFEGUARDS:

All users of this system will have a unique user ID with a personal identifier.

This system does not use persistent cookies (data that a web server causes to be placed on a user's hard drive) to implement personalization. It is the policy of the Department to prohibit the use of persistent cookies on U.S. Department of Education Web sites except where: there is a compelling need; there are appropriate safeguards in place; the use is personally approved by the Secretary of Education; and there is clear and conspicuous notice to the public.

All physical access to the U.S. Department of Education web site and the sites of Department contractors where this system of records is maintained, is controlled and monitored by security personnel who check each individual entering the building for his or her employee or visitor badge.

The computer system employed by the U.S. Department of Education offers a high degree of resistance to tampering and circumvention. This security system limits data access to the Department, and contract staff on a “need to know” basis, and controls individual users” ability to access and alter records within the system.

RETENTION AND DISPOSAL:

U.S. Department of Education web personalization customers can remove any information about their web preferences (i.e., the subjects, levels of education, types of resources, and audience-targeted materials in which they are interested), as well as any bookmarks or saved searches they have stored on the Department's web pages. U.S. Department of Education customers, however, cannot delete their names, zip codes, or email addresses from the system (although they can replace it with other information). The system, however, automatically will purge any unused accounts after a certain period of disuse. If approval to continue the ED web personalization service is received before the end of pilot, ED will keep the existing registration database active to avoid forcing customers to reregister. If approval is not received, ED will delete all customer information from the database and disable the service. If the personalization service is continued, the Department will retain and dispose of these records in accordance with National Archives and Records Administration General Records Schedule 20, Item 1.c. This schedule provides disposal authorization for electronic files and hard-copy printouts created to monitor system usage, including, but not limited to, log-in files, password files, audit trail files, system usage files, and cost-back files used to assess charges for system use. Records will be deleted or destroyed when the agency determines they are no longer needed for administrative, legal, audit, or other operational purposes.

SYSTEM MANAGERS AND ADDRESS:

Internet Project Manager, U.S. Department of Education, Office of the Chief Information Officer, 7th and D Streets, SW., Regional Office Building 3, room 4923-B, Washington, DC 20202.

NOTIFICATION PROCEDURE:

If you wish to determine whether a record exists regarding you in this system of records, you may gain access to the system via the www.ed.gov web site, or by contacting the system administrator through the webmaster@inet.ed.gov email address. Requests for notification about an individual must meet the requirements of the regulations at 34 CFR 5b.5. Individuals may also present their requests in writing or in person at any of the locations identified for this system of records.

RECORD ACCESS PROCEDURES:

If you wish to gain access to a record in this system, follow the directions described in the Notification Procedure.

CONTESTING RECORD PROCEDURES:

If you wish to change the content of a record in this system of records, you may gain access to the system and alter the record via the www.ed.gov web site and the system edit and update function. If you wish to contest the content of a record, contact the system manager by following the directions described in the Notification Procedure. Requests to amend a record must meet the regulations at 34 CFR 5b.7.

RECORD SOURCE CATEGORIES:

Information in this system is obtained from customers who use the www.ed.gov web site and complete the optional web site personalization. The personalization form provides the information contained within the system.

SYSTEM EXEMPTED FROM CERTAIN PROVISIONS OF THE ACT:

None.

[FR Doc. 01-22389 Filed 9-5-01; 8:45 am]

BILLING CODE 4000-01-P